DEPARTMENT OF AGRICULTURE

Forest Service

Tracy Placer Mine, Rogue River—Siskiyou National Forest, Josephine County, OR

AGENCY: Forest Service, USDA.

ACTION: Notice of intent to prepare an environmental impact statement.

SUMMARY: The Forest Service will prepare an environmental impact statement (EIS), to examine surface resource impacts connected with extracting gold from placer deposits within a 4.25-acre (approx.) area, in response to a mining claimant's proposed plan of operations. Proposed mining would occur along the south bank of Sucker Creek, about 11 miles southeast of Cave Junction, Oregon. During previous placer operations in the area, an existing but steeply inclined road provided vehicle access to several nearby sites. Because the placer deposit the claimant proposes to mine is located on the stream bank opposite from the road, the proponent proposes to use the existing road but would traverse Sucker Creek to reach the mine site by means of a low water crossing (ford).

The purpose for preparing this EIS is to forecast and disclose environmental consequences to surface resources, resulting from road use and mine operations, as well as to ascertain reasonable operational terms and conditions needed during development of locatable mineral resources of the United States (as authorized by the Mining Law of 1872, as amended). Although this is an action having “effects primarily of local concern (40 CFR 1506.6(3)),” the Forest Service is nonetheless publishing this notice in the Federal Register to make diligent effort at involving the public, agencies, organizations, Indian tribes and other interested parties in preparation of this EIS.

DATES: The EIS Team Leader (at the address below) should receive written comments concerning the scope of this analysis, identification of significant issues or both within 30 days following publication of this notice in the Federal Register. Once the scope of analysis is established, and significant issues identified, the Forest Service will prepare a draft EIS to document alternatives considered and to disclose anticipated environmental consequences. The draft EIS is expected to be filed with the Environmental Protection Agency (EPA) and to be available for public comment during July 2006. Following issuance of the draft EIS, and receipt of public comments related to the draft, completion of a final EIS is scheduled for November 2006.

ADDRESSES: Send written comments or inquiries regarding this proposal to Howard Jubas, EIS Team Leader, care of USDA Forest Service, Grants Pass Interagency Office, 2164 NE Spalding Ave., Grants Pass, Oregon 97526. If electronic submission of written correspondence is preferred, send electronic documents to the following e-mail address: comments-pacificnorthwest-siskiyou-galice-illinoisvalley@fs.fed.us. The subject line must contain the name of the project for which you are submitting comments.

The responsible official, Pamela Bode, District Ranger, may be contacted at the following mailing address: Illinois Valley Ranger District, Rogue River—Siskiyou National Forest, 26568 Redwood Highway, Cave Junction, Oregon 97523.

FOR FURTHER INFORMATION CONTACT: For technical information or questions, contact Howard Jubas, EIS Team Leader, at (541) 471-6760.

SUPPLEMENTARY INFORMATION: As set forth in the provisions of the 1872 Mining Law (as amended), a mining claimant (proponent) proposes to exercise his exclusive right to mine for gold within his placer mining claim (ORMC 159735). The location of the proposed placer mining operation is in the NW 1/4 of Section 19, Township 40 South, Range 6 West, Willamette Meridian, Josephine County, Oregon. The proposed mine site is located approximately 11 air miles southeast of Cave Junction, Oregon, at an elevation approximately 2400 feet above sea level. The proclaimed boundary of the Siskiyou National Forest encompasses all proposed mining excavations within the claim, as well as the access road to the mine site, and all operations would be conducted on National Forest System lands.

Proposed Action: The claimant proposes to mine gold from a 4.25-acre (approx.) placer deposit during a five-year period, beginning in 2007. Mine work would be suspended during winter when snow precludes access to the area. However, the miner proposes to access the mine and complete some work during the other three seasons, as is practical, although excavation and placer mining operations would be a predominantly summer activity.

The placer deposit borders the south bank of Sucker Creek, a tributary to the East Fork Illinois River, for approximately 1000 feet. The entire area where mining activity would occur consists mostly of gravel- to cobble-sized rocks, sands and subsoil materials. The entire deposit was turned over and worked extensively during hydraulic mining operations conducted in the later 1800s.

To provide access to the mine site for trucks and earth moving machinery, the miner proposes to repair and partially re-construct an existing road. Presently, a gate blocks this road and the spur is now impassable to large vehicles. The existing road is steeply inclined, narrow and native surface. Originally constructed decades ago, the road is used periodically to transport mining equipment, tools and supplies to several placer claims adjoining Sucker Creek. While the existing road template was certainly constructed with most attention given to short length and low cost, and it is ill-suited to anything except high-clearance trucks and excavation equipment, the road is well integrated into the landscape and stable in its existing location.

In his plan of operations, the claimant proposes to begin operations by clearing second-growth Douglas-firs, several Port-Orford-cedars and understory vegetation from a portion of the mine site using a tracked excavator and crawler tractor. At the same time that land clearing occurs, the site would be leveled. No less than two acres would be cleared initially but about two acres also would be left intact until after mining is complete in the original entry area. This initial clearing and leveling would result in felling of approximately 50 to 100 trees having breast height diameters ranging from 15 to nearly 45 inches. Cleared trees and other vegetation would be piled on the periphery of the placer deposit and out of the path of mining excavations, to the extent practicable.

Following site preparation, the excavator, crawler tractor and a dump truck would be used to dig, move or pile loose rocks and sand that form the placer deposit. To begin mining, the claimant proposes to excavate a four-to eight-foot deep depression and afterward fill it with water to create a temporary pond. The pond would be sufficiently sized to contain a (6-inch or 8-inch) suction dredge, plus a materials collection hopper, while also impounding enough water for the dredge to wash (sluice) excavated materials. Nearly all placer cobbles (less than 6 inches in diameter), gravels and sands would be “wet processed” on site by using the dredge to separate embedded gold from its substrate.

Pond water would continuously re-circulate through the operating suction dredge during the gold separation process. Stones, sands and muddy water discharged from the apparatus would drop directly into the pond. No processed waste rocks, sands or muddy water discharged from the dredge would be deposited onto ground surface surrounding the pond or into Sucker Creek. As processing of placer substrate materials proceeds, the location of the water-storage pond would be progressively shifted across the site. The trailing end of the pond would be filled with processed rocks and sands as the leading perimeter of the pond is excavated.

Water to fill the pond would be diverted from a nearby small perennial creek named Cedar Gulch; however, the pond would be only filled to its operating levels and then the water intake would be closed. There would be no outlet from the impoundment, leading toward Sucker Creek, so there would be no water flowing out of the pond on the ground surface and directly into Sucker Creek. Water would be depleted from the pond only by infiltration through substrate materials or by evaporation.

Once mining of the placer deposit is completed, the area would be re-contoured using the waste rock excavated on site. Loose cobbles, gravels and fine-grained earthen materials would be shaped to leave gentle relief and a smoothed profile. Some (or perhaps all) of the previsouly felled trees and other vegetative debris would be placed over the distributed area. Since no toxic compounds (such as mercury or cyanide) would be used to separate gold from parent materials, and no hardwork load mining would occur, there would be no hazardous waste, leachates, mill tailings or refuse ores to contend with on the site.

Scope of Environmental Analysis: The scope of this environmental analysis is limited to a review of proposed placer mine operations, including road access to the mine, with regard to potential environmental impacts to affected surface resources. The Forest Service, in implementing the Mining Law of 1872, does not have discretion to deny otherwise lawful locatable minerals mining (entry) where a reasonable plan of operations is proposed. However, Forest Service resource specialists working on this project do aim to fulfill all legally mandated environmental analysis and statement requirements, including thorough consideration of operating terms and conditions that decrease environmental effects. The application of operational terms and conditions are intended to direct mining operations and reclamation activities that minimize adverse effects on National Forest System surface resources (36 CFR 228.1).

Preliminary Issues: The interdisciplinary team assigned to this project has completed an initial review of the claimant's plan of operations and did identify two prospective significant issues. One of these issues, regarding potential for degradation of Sucker Creek water quality, validated the merit of preparing an EIS. The two significant issues heretofore identified are:

(1) The degree of impact from proposed mine operations related to species listed as threatened under the Endangered Special Act, as amended (specifically coho salmon and the northern spotted owl) and

(2) The degree to which proposed mine operations might increase water temperature, turbidity or both in Sucker Creek (especially with regard to the potential for a threatened violation of Clean Water Act requirements).

Preliminary Alternatives: Three alternatives are readily evident for consideration in the forthcoming draft EIS: 1), the no action alternative (as required by the National Environmental Policy Act, NEPA), 2), the miner's (claimant's) proposed action (plan of operations), and 3), an alternative mining plan incorporating reasonable terms and conditions that would minimize adverse environmental impacts on National Forest System surface resources.

Responsible Official: Pamela Bode, District Ranger, Illinois Valley Ranger District, is the Forest Service official responsible for decision-making.

Nature of Decision to Be Made: The responsible official will be accountable for disclosing important environmental consequences, identifying the environmentally preferable alternative, and selecting an alternative to implement. She will review the analysis contained in the Tracy Placer Mine EIS and make a decision regarding the terms and conditions that shall be required to operate, identifying especially where, when and to what extent such terms and conditions are essential to protect surface resources.

The responsible official will consider public comments/reactions to the proposal, opinions from advisory/regulatory government agencies having a role in this action, environmental consequences disclosed in the final EIS and applicable laws, regulations or policies in making this decision. The responsible official will document the decision and rationale for the decision in the Record of Decision (ROD). However, the ROD, which is tied to the final EIS, would not directly result in approval of the claimants' plan of operations. Rather, the ROD would fulfill statutory requirements for environmental review while also providing rationale for establishing reasonable terms and conditions. Once issued, the Record of Decision will be subject to Forest Service Appeal Regulations as promulgated at 36 CFR part 215.

Comment Requested: This notice of intent commences the Forest Service's obligation to determine the “scope of issues to be addressed and for identifying the significant issues related to the proposed action [40 CFR 1501.7].” Written comment suggesting the scope (span) of the analysis to be undertaken, as well as significant issues related to proposed placer mining along Sucker Creek, should be mailed to the EIS Team Leader within 30 days following publication of this notice. Comments submitted to the Forest Service that are associated with this Federal Register notice will be used to guide preparation of the draft EIS.

Following completion of the draft EIS, a comment period of no less than 45 calendar days will be allotted beginning on the day after the date EPA publishes the Notice of Availability in the Federal Register. At the end of this period, comments submitted to the Forest Service, together with names and addresses of those who responded, will be included in the public record for this proposal and as such will be available for public review. Forest Service officials will analyze, consider and respond to substantive comments submitted for the draft EIS and will then publish substantive comments and accompanying responses in the final EIS.

To assist the Forest Service in identifying and considering substantive critique of the environmental analysis documented in the draft EIS, comments should be as specific as possible. In particular, Forest Service officials welcome comments that address the adequacy of the draft EIS in disclosing environmental consequences or defining the alternatives formulated and discussed in the statement. Wherever possible, respondents should reference a specific page or chapter in the draft EIS to identify where a fault, omission or question arises. Reviewers may wish to refer to the Council on Environmental Quality Regulations (at 40 CFR 1503.3) implementing the procedural provisions of NEPA in addressing these points.

Comments submitted anonymously will be accepted and considered; however, those who submit anonymous comments will not have standing to appeal the subsequent decision (as authorized by 36 CFR part 215). However, pursuant to 7 CFR 1.27(d), any person may request the agency to withhold a submission from the public record by showing how the Freedom of Information Act (FOIA) permits such confidentiality. Persons requesting such confidentiality should be aware that, under the FOIA, confidentiality may be granted in only very limited circumstances (for example, to protect trade secrets). The Forest Service will inform the requester of the agency's decision regarding the request for confidentiality and, in situations where the request is denied, the agency will return the submission and notify the requester the comments may be resubmitted with or without name and address within a specified number of days.

The Forest Service wishes to give reviewers notice, at this first stage of EIS preparation, of several key court rulings that relate to standards for public participation in the entire environmental review process. First, reviewers of a draft EIS must structure their participation in the environmental review so that it is meaningful and alerts the Forest Service to the reviewer's position and contentions. Vermont Yankee Nuclear Power Corp. v. NRDC, 435 U.S. 519, 553 (1978). Additionally, environmental objections that could have been raised at the draft EIS, but that were not raised until completion of the final EIS, may be waived or dismissed by the court. City of Angoon v. Hodel, 803 F.2d 1016, 1022 (9th Cir. 1986) and Wisconsin Heritages, Inc. v. Harris, 490 F.Supp. 1334, 1338 (E.D. Wis. 1980). therefore, it is important for persons interested in this proposed action to make available to the Forest Service their comments at a time when those responses can be meaningfully considered (that is, in response to this notice and subsequent to release of the draft EIS). Such timely submissions of information permits Forest Service analysts to correct, revise or supplement disclosures made in the draft environmental analysis and thus improve overall decision-making.

Dated: April 6, 2006.
Pamela W. Bode,
District Ranger.

[FR Doc. 06-3782 Filed 4-20-06; 8:45 am]

BILLING CODE 3410-11-M